FEDERAL COMMUNICATIONS COMMISSION

Notice of Public Information Collection(s) Being Reviewed by the Federal Communications Commission for Extension Under Delegated Authority 5 CFR 1320 Authority, Comments Requested

October 10, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments on or before December 19, 2000.

ADDRESSES: Direct all comments to Les Smith, Federal Communications Commissions, Room 1-A804, 445 12th Street, S.W., Washington, DC 20554 or via the Internet to lesmith@fcc.gov.

FOR FURTHER INFORMATION CONTACT: For additional information or copies of the information collections contact Les Smith at 202-418-0217 or via the Internet at lesmith@fcc.gov.

SUPPLEMENTARY INFORMATION: OMB Control Number: 3060-0787.

Title: Implementation of the Subscriber Carrier Selection Changes Provisions of the Telecommunications Act of 1996: Policies and Rules Concerning Unauthorized Changes of Consumers Long Distance Carriers.

Form Number: N/A.

Type of Review: Extension.

Respondents: Business or other for-profit entities.

Number of Respondents: 28,676.

Estimated Time Per Response: 3.83 hours (avg.).

Total Annual Burden: 109,876 hours.

Annual Cost Burden: None.

Frequency of Response: Recordkeeping; On occasion reporting requirements; Third party disclosure.

Needs and Uses: The goal of section 258 is to eliminate the practice of “slamming” which is the unauthorized change of a subscriber's preferred carrier. The FCC modified the liability rules that apply when a consumer has paid charges to a slamming carrier. In such instances, the new rules require a slamming carrier to pay out 150% of the collected charges to the authorized carrier, which, in turn, will pay to the consumer 50% of his or her original payment. The Order on Reconsideration sets forth certain notification requirements to facilitate carriers' compliance with the liability rules. The Commission believes these modifications will strengthen the ability of our rules to deter slamming, while addressing concerns raised with respect to its previous administrative procedures.

Fedral Communications Commission.
Magalie Roman Salas,
Secretary.

[FR Doc. 00-27039 Filed 10-19-00; 8:45 am]

BILLING CODE 6712-01-P